DEPARTMENT OF THE INTERIOR

Office of Surface Mining Reclamation and Enforcement

30 CFR Part 948

[SATS No. WV-118-FOR (partial); Docket ID: OSM-2011-0009; SATS No. WV-126-FOR; Docket ID: OSM-2019-0012 S1D1S SS08011000 SX064A000 240S180110; S2D2S SS08011000 SX064A000 245XS501520]

West Virginia Regulatory Program; Correction

AGENCY: Office of Surface Mining Reclamation and Enforcement, Interior.

ACTION: Final rule; correction.

SUMMARY: We, the Office of Surface Mining Reclamation and Enforcement (OSMRE), published a document in the Federal Register on March 18, 2024, approving in part, and not approving in part, amendments to the West Virginia regulatory program (the West Virginia program) under the Surface Mining Control and Reclamation Act of 1977 (SMCRA or the Act). We made an error in the document by overwriting a provision that should not have been removed; instead, we should have added a new paragraph under the not approved section. Additionally, we did not include a provision in the table where our approvals were listed. We published a correction to the March 18, 2024, Federal Register document on August 28, 2024, but because the March 18 revisions had already become effective, the amendatory instructions became erroneous and the August 28, 2024, corrections could not be incorporated into the Code of Federal Regulations. This document corrects the final regulations.

DATES: This correction is effective January 17, 2025.

FOR FURTHER INFORMATION CONTACT: Mr. Justin Adams, Director, Charleston Field Office, Telephone: (304) 977-7177. Email: osm-chfo@osmre.gov.

SUPPLEMENTARY INFORMATION: This is a summary of errata from our final rule published March 18, 2024 (89 FR 19262), FR Doc. 2024-05682, on page 19273, columns 2 and 3. We are correcting 30 CFR 948.12 (State statutory, regulatory, and proposed program amendment provisions not approved) to re-letter subsection (k) as subsection (l), and reinstate the version of subsection (k) that existed in the CFR prior to the publication of the March 18, 2024 Federal Register document. See also 89 FR 2133 (Jan. 12, 2024). We are also adding subsection 38-2-12.5.d of West Virginia's regulations to the table at 30 CFR 948.15 (Approval of West Virginia regulatory program amendments). We had approved its deletion from West Virginia's regulations in the March 18, 2024, Federal Register, but it was omitted from the table.

List of Subjects in 30 CFR Part 948

Intergovernmental relations, Surface mining, Underground mining.

Accordingly, 30 CFR part 948 is amended by making the following correcting amendments:

PART 948—WEST VIRGINIA

1. The authority citation for part 948 continues to read as follows:

Authority: 30 U.S.C. 1201 et seq.

2. In § 948.12, revise paragraph (k) and add paragraph (l) to read as follows:

§ 948.12 State statutory, regulatory, and proposed program amendment provisions not approved.

* * * * *

(k) We are not approving the following portions of provisions of the proposed program amendment that West Virginia submitted on May 15, 2017:

(1) We are deferring our decision on the deletion of provisions from W.Va. Code 22-3-11(g)(2) regarding the development of a long-range planning process for the selection and prioritization of sites to be reclaimed. We defer our decision until we make a determination on West Virginia's related amendment docketed as WV-128-FOR, which relates to the complete and accurate listing of all outstanding reclamation obligations (including water treatment) on active permits in the State.

(2) [Reserved]

(l) We are not approving the following provisions of the proposed West Virginia program amendments dated May 2, 2018:

(1) At W.Va. Code 22-3-9, revisions substituting notice by newspaper with notice in a form and manner determined by the Secretary which may be electronic.

(2) At W.Va. Code 22-3-20, revisions substituting notice by newspaper with notice in a form and manner determined by the Secretary which may be electronic.

(3) At CSR 38-2-2.37, the removal of the definition “completion of reclamation”.

(4) At CSR 38-2-12.2.d., the elimination to the existing prohibition on bond release for any site specific bonding (i.e., open-acre bonding) until all coal extraction is completed and the disturbed area is completely backfilled and regraded.

(5) At CSR 38-2-12.2.e., to restructure and revise existing approved language in this section and move it to CSR 38-2-12.2.a.4.

(6) At CSR 38-2-12.2.f., to move, unchanged, this existing language to CSR 38-2-12.2.d.

(7) At CSR 38-2-12.2.g., to move, unchanged, this existing language to CSR 38-2-12.2.f.

(8) At CSR 38-2-12.2.h., to renumber existing CSR 38-2-12.2.h to 12.2.i. and to insert it as a new CSR 38-2-12.2.h.

(9) At CSR 38-2-12.4.c., to eliminate an existing 180 day window for initiating reclamation operations to reclaim the site in accordance with the approved reclamation plan or modification thereof.

(10) At CSR 38-2-12.5., to delete subsection 12.5 of the West Virginia regulations, which directs WVDEP's collection, analysis and reporting on sites where bond has been forfeited including, in particular, data relating to the water quality of water being discharged from forfeited sites.

3. In § 948.15, revise the table entry “April 25, 2011, May 8, 2018” to read as follows:

§ 948.15 Approval of West Virginia regulatory program amendments.

* * * * *

Original amendment submission dates | Date of publication of final rule | Citation/description of approved provisions
* * * * * * *
April 25, 2011, May 8, 2018 | March 18, 2024 | CSR 38-2-2.6; 9.3.d; 11.3.f; 11.4; 11.6; 12.2.a, 12.5.b, c and d; 12.4.a.2.B, 12.4.b, 4.b.1 and 4.b.2; 12.4.d; 14.5.b.
* * * * * * *

Thomas D. Shope,
Regional Director, North Atlantic-Appalachian Region.

[FR Doc. 2025-01131 Filed 1-16-25; 8:45 am]

BILLING CODE 4310-05-P